DEPARTMENT OF STATE

[Public Notice 3671]

Office of the Coordinator for Counterterrorism; Designation of a Foreign Terrorist Organization

AGENCY: Department of State.

ACTION: Designation.

Pursuant to Section 219 of the Immigration and Nationality Act (“INA”), as added by the Antiterrorism and Effective Death Penalty Act of 1996, Pub. L. 104-132, section 302, 110 Stat. 1214, 1248 (1996), and amended by the Illegal Immigration Reform and Immigrant Responsibility Act of 1996, Pub. L. 104-208, 110 Stat. 3009 (1996), the Secretary of State hereby designates, effective May 16, 2001, the following organization as a foreign terrorist organization:

The “Real IRA”

also known as the “Real Irish Republican Army”

also known as “RIRA”

also known as the “32 County Sovereignty Committee”

also known as the “32 County Sovereignty Movement”

also known as the “Real Oglaigh na hEireann”

also known as the “Irish Republican Prisoners Welfare Association”

Dated: May 11, 2001.
Edmund J. Hull,
Acting Coordinator for Counterterrorism, Department of State.

[FR Doc. 01-12612 Filed 5-15-01; 5:00 pm]

BILLING CODE 4710-10-P